DEPARTMENT OF VETERANS AFFAIRS

[OMB Control No. 2900-0111]

Agency Information Collection Activities Under OMB Review

AGENCY: Veterans Benefits Administration, Department of Veterans Affairs

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 24, 2001.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail: denise.mclamb.va.gov. Please refer to “OMB Control No. 2900-0111.”

SUPPLEMENTARY INFORMATION: Title: Statement of Purchaser or Owner Assuming Seller's Loan, VA Form 26-6382.

OMB Control Number: 2900-0111.

Type of Review: Extension of a currently approved collection.

Abstract: VA Form 26-6382 is completed by purchasers who are assuming veterans' guaranteed, insured, and direct home loans. The information collected on the form is essential for VA to make determinations for release of liability as well as for credit underwriting determinations for substitution of entitlement cases.

An agency may not conduct or sponsor, and a person is not required to respond to a collection of information unless it displays a currently valid OMB control number. The Federal Register Notice with a 60-day comment period soliciting comments on this collection of information was published on June 14, 2001, at page 32414—32415.

Affected Public: Individuals or households.

Estimated Annual Burden: 2,250 hours.

Estimated Average Burden Per Respondent: 15 minutes.

Frequency of Response: On occasion.

Estimated Number of Respondents: 9,000.

Send comments and recommendations concerning any aspect of the information collection to VA's OMB Desk Officer, OMB Human Resources and Housing Branch, New Executive Office Building, Room 10235, Washington, DC 20503 (202) 395-7316. Please refer to “OMB Control No. 2900-0111” in any correspondence.

Dated: August 16, 2001.
By direction of the Secretary.
Donald L. Neilson,
Director, Information Management Service.

[FR Doc. 01-21501 Filed 8-23-01; 8:45 am]

BILLING CODE 8320-01-P